ENVIRONMENTAL PROTECTION AGENCY

40 CFR Part 180

Tolerances and Exemptions from Tolerances for Pesticide Chemicals in Food

CFR Correction

In Title 40 of the Code of Federal Regulations, parts 150 to 189, revised as of July 1, 2000, part 180 is corrected by adding § 180.200 to read as follows:

§ 180.200 Dicloran; tolerances for residues.

(a) General. (1) Tolerances are established for residues of the fungicide 2,6- dichloro-4-nitroaniline in or on the following raw agricultural commodities. Unless otherwise specified, these tolerances prescribed in this paragraph provide for residues from preharvest application only.

Commodity | Parts per million
Apricot (PRE- and POST-H) | 20
Bean, snap | 20
Carrot (POST-H) | 10
Celery | 15
Cherry, sweet (PRE- and POST-H) | 20
Cucumber | 5
Endive (escarole) | 10
Garlic | 5
Grape | 10
Lettuce | 10
Nectarine (PRE- and POST-H) | 20
Onion | 10
Peach (PRE- and POST-H) | 20
Plum (fresh prune) (PRE- and POST-H) | 15
Potato | 0.25
Rhubarb | 10
Sweet potato (POST-H) | 10
Tomato | 5

(2) Unless otherwise specified, these tolerances prescribed in this section provide for residues from preharvest application only.

(b) Section 18 emergency exemptions. Time-limited tolerances are established for combined residues of the fungicide, dicloran, 2,6-dichloro-4-nitroaniline in connection with use of the pesticide under section 18 emergency exemptions granted by EPA. The tolerances will expire and are revoked on the dates specified in the following table.

Commodity | Parts per million | Expiration/Revocation Date
Peanut, oil | 6.0 | 10/31/01
Peanuts | 3.0 | 10/31/01

(c) Tolerances with regional registrations. Reserved]

(d) Indirect or inadvertent residues. [Reserved]

[46 FR 27938, May 22, 1981, as amended at 63 FR 162, Jan. 5, 1998; 63 FR 57073, Oct. 26, 1998; 64 FR 13096, Mar. 17, 1999]

[FR Doc. 01-55507 Filed 6-5-01; 8:45 am]

BILLING CODE 1505-01-D